DEPARTMENT OF HEALTH AND HUMAN SERVICES

Food and Drug Administration

21 CFR Part 73

[Docket No. FDA-2026-C-2014]

Ecoflora Cares; Filing of Color Additive Petition

AGENCY: Food and Drug Administration, HHS.

ACTION: Notification of petition.

SUMMARY: The Food and Drug Administration (FDA or we) is announcing that we have filed a petition, submitted by Ecoflora Cares, c/o Exponent, Inc., proposing that we amend our color additive regulations to provide for the safe use of jagua (genipin-glycine) blue as a color additive in pet foods at levels consistent with good manufacturing practice.

DATES: The color additive petition was filed on February 24, 2026.

ADDRESSES: For access to the docket to read background documents or comments received, go to https://www.regulations.gov and insert the docket number found in brackets in the heading of this document into the “Search” box and follow the prompts, and/or go to the Dockets Management Staff, 5630 Fishers Lane, Rm. 1061, Rockville, MD 20852.

FOR FURTHER INFORMATION CONTACT: Shayla West-Barnette, Office of Food Chemical Safety, Dietary Supplements, and Innovation, Human Foods Program, Food and Drug Administration, 5001 Campus Dr., College Park, MD 20740, 240-402-1262; or Meadow Platt, Office of Policy and International Engagement, Human Foods Program, Food and Drug Administration, 5001 Campus Dr., College Park, MD 20740, 240-402-2378.

SUPPLEMENTARY INFORMATION: Under section 721(d)(1) of the Federal Food, Drug, and Cosmetic Act (21 U.S.C. 379e(d)(1)), we are giving notice that we have filed a color additive petition (CAP 6C0341), submitted by Ecoflora Cares, c/o Exponent, Inc., 1150 Connecticut Avenue NW, Suite 1100, Washington, DC 20036. The petition proposes that we amend our color additive regulations in § 73.225 (21 CFR 73.225) (Listing of Color Additives Exempt from Certification) to provide for the safe use of jagua (genipin-glycine) blue as a color additive in pet foods at levels consistent with good manufacturing practice.

The petitioner claims that this action is categorically excluded under 21 CFR 25.32(k) because the substance is intended to remain in food through ingestion by pet consumers and is not intended to replace macronutrients in food. In addition, the petitioner states that, to their knowledge, no extraordinary circumstances exist. If FDA determines a categorical exclusion applies, neither an environmental assessment nor an environmental impact statement is required. If FDA determines a categorical exclusion does not apply, we will request an environmental assessment and make it available for public inspection.

Grace R. Graham,
Deputy Commissioner for Policy, Legislation, and International Affairs.

[FR Doc. 2026-04288 Filed 3-3-26; 8:45 am]

BILLING CODE 4164-01-P